DEPARTMENT OF THE INTERIOR

Bureau of Land Management

[WO-320-1330-PB-24 1A]

Extension of Approval Information Collection, OMB Control Number 1004-0169

AGENCY: Bureau of Land Management, Interior.

ACTION: Extension of Approved Information Collection, OMB Control Number 1004-0169.

SUMMARY: In accordance with the Paperwork Reduction Act of 1995, the Bureau of Land Management (BLM) plans to request the Office of Management and Budget (OMB) to extend an existing approval to collect information from mining claimants concerning use and occupancy of mining claims on public lands. The nonform information under 43 CFR subpart 3715 authorizes the BLM to manage the use and occupancy of public lands for developing the mineral deposits by mining claimants.

DATES: You must submit your comments to the BLM at the address below on or before March 25, 2008. The BLM will not necessarily consider any comments received after the above date.

ADDRESSES: You may send comments to the U.S. Department of the Interior, Bureau of Land Management, Mail Stop 401LS, 1849 C Street, NW., Washington, DC 20045, “ATTN: 1004-0169”.

You may send comments via the Internet to WOComments@blm.gov. Please include “ATTN: 1004-0169” and your name and address in your Internet message. You may deliver comments to: The U.S. Department of the Interior, Bureau of Land Management, Administrative Record, Room 401, 1620 L Street, NW., ATTN: Bureau Information Collection Clearance Officer (WO-630), Washington, DC, 20036 during regular business hours (7:45 a.m. to 4:15 p.m.) Monday through Friday, except on Federal holidays.

All comments will be available for public review at the L Street address during regular business hours (7:45 a.m. to 4:15 p.m.) Monday through Friday, except on Federal holidays.

FOR FURTHER INFORMATION CONTACT: You may contact Roger Haskins at 202-452-0355 (Commercial or FTS). Persons who use a telecommunication device for the deaf (TDD) may call the Federal Information Relay Service (FIRS) on 1-800-877-8330, 24 hours a day, seven days a week, to leave a message for Mr. Haskins.

SUPPLEMENTARY INFORMATION: 5 CFR 1320.12(a) requires that we provide a 60-day notice in the Federal Register concerning a collection of information to solicit comments on:

(a) Whether the collection of information is necessary for the proper functioning of the agency, including whether the information will have practical utility;

(b) The accuracy of our estimates of the information collection burden, including the validity of the methodology and assumptions we use;

(c) Ways to enhance the quality, utility, and clarity of the information collected; and

(d) Ways to minimize the information collection burden on those who are to respond, including the use of appropriate automated, electronic, mechanical, or other technological collection techniques or other forms of information technology.

The General Mining Law (30 U.S.C. 612), Federal Land Policy and Management Act of 1976 (43 U.S.C. 1733), and the regulations is collected under 43 CFR 3715 authorize the BLM to manage use and occupancy of mining claims on public lands. The nonform information in the regulations is collected under 43 CFR part 3715, which authorizes the BLM to collect information concerning proposed mining development activities on public lands. Without this information, the BLM would not be able to analyze and approve mining claimants' proposed use and occupancy activities.

Mining claimants planning to occupy their mining claims on public lands under the mining laws must submit the following information to the BLM:

(1) A detailed map that identifies the site and shows the place of temporary and permanent structures for occupancy, the location of and reason for the structures intended to exclude the public, and the location of reasonable public passage or access routes through or around the area adjacent to public lands;

(2) A written description of the proposed occupancy that describes in detail how the proposed occupancy is reasonably incident to mining and how the proposed occupancy meets the conditions of 43 CFR 3715.2 and 3715.2-1; and

(3) An estimate of the period of use of the structures during which the public would be excluded, and a schedule for removing them and reclaiming the lands when the operations end.

Based upon the BLM's experience with mining claims use and occupancy activity, it estimates the public reporting information collection burden takes 2 hours to gather and complete. The respondents are mining claimants and operators of prospecting, exploration, mining, and processing operations. The estimated number of responses per year is 150 and the total annual burden is 300 hours. The BLM will summarize all responses to this notice and include them in the request OMB approval. All comments will become a matter of public record.

Dated: January 18, 2008.
Ted R. Hudson,
Bureau of Land Management, Information Collection Clearance Officer.

[FR Doc. E8-1292 Filed 1-24-08; 8:45 am]

BILLING CODE 4310-84-P